DEPARTMENT OF THE INTERIOR

National Park Service

[NPS-WASO-NAGPRA-11613; 2200-1100-665]

Notice of Inventory Completion: U.S. Department of Energy Oak Ridge Office, Oak Ridge, TN

AGENCY: National Park Service, Interior.

ACTION: Notice.

SUMMARY: The U.S. Department of Energy Oak Ridge Office has completed an inventory of human remains and associated funerary object, in consultation with the appropriate Indian tribes, and has determined that there is a cultural affiliation between the human remains and the associated funerary object and a present-day Indian tribe. Representatives of any Indian tribe that believes itself to be culturally affiliated with the human remains and associated funerary object may contact the U.S. Department of Energy Oak Ridge Office. Repatriation of the human remains and associated funerary object to the Indian tribe stated below may occur if no additional claimants come forward.

DATES: Representatives of any Indian tribe that believes it has a cultural affiliation with the human remains and associated funerary object should contact the U.S. Department of Energy Oak Ridge Office at the address below by December 17, 2012.

ADDRESSES: Katatra Vasquez, U.S. Department of Energy Oak Ridge Office, P.O. Box 2001, SE-32, Oak Ridge, TN 37831, telephone (865) 576-0835.

SUPPLEMENTARY INFORMATION: Notice is here given in accordance with the Native American Graves Protection and Repatriation Act (NAGPRA), 25 U.S.C. 3003, of the completion of an inventory of human remains and associated funerary object in the possession of the U.S. Department of Energy Oak Ridge Office. The human remains and associated funerary object were removed from Roane County, TN.

This notice is published as part of the National Park Service's administrative responsibilities under NAGPRA, 25 U.S.C. 3003(d)(3). The determinations in this notice are the sole responsibility of the museum, institution, or Federal agency that has control of the Native American human remains and associated funerary object. The National Park Service is not responsible for the determinations in this notice.

Consultation

A detailed assessment of the human remains was made by the U.S. Department of Energy Oak Ridge Office professional staff in consultation with representatives of the Cherokee Nation; Chickasaw Nation; Choctaw Nation of Oklahoma; Eastern Band of Cherokee; Eastern Shawnee Tribe of Oklahoma; Poarch Band of Creeks (previously listed as the Poarch Band of Creek Indians of Alabama); Quapaw Tribe of Indians; The Muscogee (Creek) Nation; The Seminole Nation of Oklahoma; and the United Keetoowah Band of Cherokee Indians in Oklahoma.

History and Description of the Remains

In July 1981, human remains representing, at minimum, one individual were removed from site 40RE86 in Roane County, TN, as a result of an archeological investigation. The site dates to the Mississippian period (specifically, the eastern Tennessee Dallas Phase, A.D. 1300 to 1600). Based on the associated pottery found at the site, the human remains date to about A.D. 1400. No known individuals were identified. The one associated funerary object is a small shell tempered vessel.

The Dallas Phase people of the Upper Tennessee Valley are not clearly identifiable as being culturally affiliated with a modern-day tribe. However, based on consultation and the totality of circumstances surrounding acquisition of the human remains and associated funerary object, the U.S. Department of Energy Oak Ridge Office has determined by a reasonable belief that the human remains and associated funerary object are culturally affiliated with the Eastern Band of Cherokee Indians.

Determinations Made by the U.S. Department of Energy Oak Ridge Office

Officials of the U.S. Department of Energy Oak Ridge Office have determined that:

• Pursuant to 25 U.S.C. 3001(9), the human remains described in this notice represent the physical remains of one individual of Native American ancestry.

• Pursuant to 25 U.S.C. 3001(3)(A), the one object described above is reasonably believed to have been placed with or near individual human remains at the time of death or later as part of the death rite or ceremony.

• Pursuant to 25 U.S.C. 3001(2), there is a relationship of shared group identity that can be reasonably traced between the Native American human remains and the Eastern Band of Cherokee Indians.

Additional Requestors and Disposition

Representatives of any Indian tribe that believes itself to be culturally affiliated with the human remains and associated funerary object should contact Katatra Vasquez, U.S. Department of Energy Oak Ridge Office, P.O. Box 2001, SE-32, Oak Ridge, TN 37831, telephone (865) 576-0835 before December 17, 2012. Repatriation of the human remains and associated funerary object to the Eastern Band of Cherokee Indians may proceed after that date if no additional claimants come forward.

The U.S. Department of Energy Oak Ridge Office is responsible for notifying the Cherokee Nation; Chickasaw Nation; Choctaw Nation of Oklahoma; Eastern Band of Cherokee; Eastern Shawnee Tribe of Oklahoma; Poarch Band of Creeks (previously listed as the Poarch Band of Creek Indians of Alabama); Quapaw Tribe of Indians; The Muscogee (Creek) Nation; The Seminole Nation of Oklahoma; and the United Keetoowah Band of Cherokee Indians in Oklahoma, that this notice has been published.

Dated: October 25, 2012.
David Tarler,
Acting Manager, National NAGPRA Program.

[FR Doc. 2012-27953 Filed 11-15-12; 8:45 am]

BILLING CODE 4312-50-P